NUCLEAR REGULATORY COMMISSION

10 CFR Part 37

[NRC-2010-0194; RIN 3150-AI12]

Implementation Guidance for Physical Protection of Byproduct Material Category 1 and Category 2 Quantities of Radioactive Material; Draft Guidance Document for Comment; Extension of Comment Period

AGENCY: Nuclear Regulatory Commission.

ACTION: Extension of comment period.

SUMMARY: On July 14, 2010, the U.S. Nuclear Regulatory Commission (NRC) noticed for public comment implementation guidance for a proposed rule to establish security requirements for the use and transport of Category 1 and Category 2 quantities of radioactive material. The public comment period for this guidance was to have expired on November 12, 2010. The NRC received several requests to extend the comment period to January 15, 2011. Due to the size and complexity of the draft implementation guidance and the associated proposed rule, the NRC has decided to extend the comment period until January 18, 2011.

DATES: The comment period has been extended and now expires on January 18, 2011. Comments received after this date will be considered if it is practical to do so, but the NRC is able to ensure consideration only for comments received on or before this date.

ADDRESSES: Please include Docket ID NRC-2010-0194 in the subject line of your comments. For instructions on accessing documents related to this action, see “Submitting Comments and Accessing Information” in the SUPPLEMENTARY INFORMATION section of this document. You may submit comments by any one of the following methods.

Federal Rulemaking Web Site: Go to http://www.regulations.gov and search for documents filed under Docket ID NRC-2010-0194. Address questions about NRC dockets to Carol Gallagher, telephone 301-492-3668; e-mail Carol.Gallagher@nrc.gov.

Mail comments to: Cindy Bladey, Chief, Rules, Announcements, and Directives Branch (RADB), Office of Administration, Mail Stop: TWB-05-B01M, U.S. Nuclear Regulatory Commission, Washington, DC 20555-0001.

Fax comments to: RADB at (301) 492-3446.

FOR FURTHER INFORMATION CONTACT: Merri Horn, Office of Federal and State Materials and Environmental Management Programs, U.S. Nuclear Regulatory Commission, Washington, DC 20555-0001, telephone: (301) 415-8126, e-mail: Merri.Horn@nrc.gov.

SUPPLEMENTARY INFORMATION:

Submitting Comments and Accessing Information

Comments submitted in writing or in electronic form will be posted on the NRC Web site and on the Federal rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this document using the following methods:

NRC's Public Document Room (PDR): The public may examine and have copied for a fee publicly available documents at the NRC's PDR, Room O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov. The draft Part 37 implementation guidance is available electronically under ADAMS Accession Number ML101470684.

Federal Rulemaking Web site: Public comments and supporting materials related to the implementation guidance, including the draft implementation guidance, can be found at http://www.regulations.gov by searching on Docket ID NRC-2010-0194. Documents related to the proposed rule can be found by searching on Docket ID NRC 2008-0120.

Discussion

The NRC published a proposed rule that would place the security requirements for use of Category 1 and Category 2 quantities of radioactive material into a new Part 37 of Title 10 of the Code of Federal Regulations. The proposed rule was published on June 15, 2010 (75 FR 33902) and the public comment period runs through October 13, 2010. The public comment period for the proposed rule is being extended to January 18, 2011, by separate notice. Documents related to the proposed rule can be found at http://www.regulations.gov by searching on Docket ID NRC 2008-0120.

In conjunction with the proposed rule, the NRC has developed implementation guidance. The implementation document provides guidance to a licensee or applicant for implementation of proposed 10 CFR Part 37, “Physical Protection of Byproduct Material,” specifically Category 1 and Category 2 quantities of radioactive material. It is intended for use by applicants, licensees, Agreement States, and NRC staff. The document describes methods acceptable to the NRC staff for implementing proposed 10 CFR Part 37. The approaches and methods described in the document are provided for information only. Methods and solutions different from those described in the document are acceptable if they meet the requirements in proposed 10 CFR Part 37. The guidance is provided in the form of questions and answers on the provisions of the proposed rule. The draft implementation guidance document for proposed 10 CFR Part 37 is available electronically under ADAMS Accession Number ML101470684, and can also be found at http://www.regulations.gov by searching on Docket ID: NRC-2010-0194.

On July 14, 2010 (75 FR 40756), the NRC noticed the availability of the implementation guidance for public comment. The public comment period for this guidance was to have expired on November 12, 2010. The NRC received several requests to extend the comment period to January 15, 2011. Due to the size and complexity of the draft implementation guidance and the associated proposed rule, the NRC has decided to extend the comment period until January 18, 2011.

Dated at Rockville, Maryland, this 29th day of September 2010.
For the Nuclear Regulatory Commission.
Mark Thaggard,
Deputy Director, Division of Intergovernmental Liaison and Rulemaking, Office of Federal and State Materials and Environmental Management Programs.

[FR Doc. 2010-25784 Filed 10-12-10; 8:45 am]

BILLING CODE 7590-01-P